DEPARTMENT OF HEALTH AND HUMAN SERVICES

Administration on Aging

Agency Information Collection Activities; Submission for OMB Review; Comment Request; Title III and VII State Program Report

AGENCY: Administration on Aging, HHS.

ACTION: Notice.

SUMMARY: The Administration on Aging (AoA) is announcing that the proposed collection of information listed below has been submitted to the Office of Management and Budget (OMB) for review and clearance under the Paperwork Reduction Act of 1995.

DATES: Submit written comments on the collection of information by January 29, 2007.

ADDRESSES: Submit written comments on the collection of information by fax 202.395.6974 or by mail to the Office of Information and Regulatory Affairs, OMB, New Executive Office Bldg. Room 10235, 725 17th St. N.W., Washington, DC 20503, Attn:

Carolyn Lovett, Desk Officer for AoA.

FOR FURTHER INFORMATION CONTACT: Saadia Greenberg at 202-357-3554 or e-mail: saadia.greenberg@aoa.hhs.gov.

SUPPLEMENTARY INFORMATION: In compliance with 44 U.S.C. 3507, AoA has submitted the following proposed collection of information to OMB for review and clearance.

The Older Americans Act (OAA) requires annual program performance reports from States. In compliance with this OAA provision, the State Program Report (SPR) collects information about how State Agencies on Aging expend OAA funds as well as funding from other sources for OAA authorized services. The SPR also collects information on the demographic and functional status of the recipients. This collection was revised in November 2004 (OMB Approval Number 0985-0008). The proposed data collection continuation format remains unchanged from the November 2004 document. It may be found at http://www.aoa.gov/prof/agingnet/NAPIS/docs/SPR-Modified-Form-11.08.04.pdf.

AoA estimates the burden of this collection of information as follows: 2,600 hours.

Dated: December 21, 2006.
Josefina G. Carbonell,
Assistant Secretary for Aging.

[FR Doc. E6-22273 Filed 12-27-06; 8:45 am]

BILLING CODE 4154-01-P